DEPARTMENT OF LABOR

Occupational Safety and Health Administration

Susan Harwood Training Grant Program, FY 2011

AGENCY: Occupational Safety and Health Administration, Labor.

ACTION: Notification of Funding Opportunity for Susan Harwood Training Grant Program, FY 2011.

Funding Opportunity No.: SHTG-FY-11-01.

Catalog of Federal Domestic Assistance No.: 17.502.

SUMMARY: This notice announces availability of approximately $4.7 million for Susan Harwood Training Program grants under the following categories: Capacity Building Developmental, Capacity Building Pilot, Targeted Topic Training, and Training and Educational Materials Development grants.

DATES: Grant applications must be received electronically by the Grants.gov system no later than 4:30 p.m., E.T., on Wednesday, July 20, 2011, the application deadline date.

ADDRESSES: The complete Susan Harwood Training Grant Program solicitation for grant applications and all information needed to apply for this funding opportunity are available at the Grants.gov Web site, http://www.grants.gov.

FOR FURTHER INFORMATION CONTACT: Questions regarding this solicitation for grant applications should be e-mailed to HarwoodGrants@dol.gov or directed to Kimberly Mason, Program Analyst, or Jim Barnes, Director, Office of Training and Educational Programs, at 847-759-7700 (note this is not a toll-free number). To obtain further information on the Susan Harwood Training Grant Program, visit the OSHA Web site at: https://www.osha.gov, select the “Training” tab, and then select “Susan Harwood Training Grant Program.”

Authority: Section 21 of the Occupational Safety and Health Act of 1970, (29 U.S.C. 670), Public Law 111-117, and Public Law 112-10.

Signed at Washington, DC on June 15, 2011.
David Michaels,
Assistant Secretary of Labor for Occupational Safety and Health.

[FR Doc. 2011-15231 Filed 6-17-11; 8:45 am]

BILLING CODE 4510-26-P